NUCLEAR REGULATORY COMMISSION

[Docket Nos. 52-025 and 52-026; NRC-2015-0074]

Vogtle Electric Generating Station, Units 3 and 4; Southern Nuclear Operating Company; Annex Building Structure and Layout Changes

AGENCY: Nuclear Regulatory Commission.

ACTION: Exemption and combined license amendment issuance.

SUMMARY: The U.S. Nuclear Regulatory Commission (NRC) is granting an exemption to allow a departure from the certification information of Tier 1 of the generic design control document (DCD) and is issuing License Amendment No. 27 to Combined Licenses (COL), NPF-91 and NPF-92. The COLs were issued to Southern Nuclear Operating Company, Inc., and Georgia Power Company, Oglethorpe Power Corporation, Municipal Electric Authority of Georgia, and the City of Dalton, Georgia (the licensee); for construction and operation of the Vogtle Electric Generating Plant (VEGP), Units 3 and 4, located in Burke County, Georgia.

The granting of the exemption allows the changes to Tier 1 information requested in the amendment. Because the acceptability of the exemption was determined in part by the acceptability of the amendment, the exemption and amendment are being issued concurrently.

ADDRESSES: Please refer to Docket ID NRC-2015-0074 when contacting the NRC about the availability of information regarding this document. You may obtain publicly-available information related to this document using any of the following methods:

• Federal Rulemaking Web site: Go to http://www.regulations.gov and search for Docket ID NRC-2015-0074. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The request for the amendment and exemption were submitted by letter dated August 22, 2014 (ADAMS Accession No. ML14234A423). The licensee revised this request by letter dated September 23, 2014 (ADAMS Accession No. ML14266A656), and supplemented the request by letters dated October 30 and November 6, 2014 (ADAMS Accession Nos. ML14303A660 and ML14310A831, respectively).

• NRC's PDR: You may examine and purchase copies of public documents at the NRC's PDR, Room O1-F21, One White Flint North, 11555 Rockville Pike, Rockville, Maryland 20852.

FOR FURTHER INFORMATION CONTACT: Chandu Patel, Office of New Reactors, U.S. Nuclear Regulatory Commission, Washington, DC 20555-0001; telephone: 301-415-3025; email: Chandu.Patel@nrc.gov.

SUPPLEMENTARY INFORMATION:

I. Introduction

The NRC is granting an exemption from Paragraph B of Section III, “Scope and Contents,” of appendix D, “Design Certification Rule for the AP1000,” to part 52 of Title 10 of the Code of Federal Regulations (10 CFR) and issuing License Amendment No. 27 to COLs, NPF-91 and NPF-92, to the licensee. The exemption is required by Paragraph A.4 of Section VIII, “Processes for Changes and Departures,” appendix D to 10 CFR part 52 to allow the licensee to depart from Tier 1 information. With the requested amendment, the licensee sought:

(a) Installation of an additional non-safety-related battery;

(b) Revision to the annex building internal configuration by converting a shift turnover room to a battery room, adding an additional battery equipment room, and moving a fire area wall;

(c) Increase in the height of a room in the annex building; and

(d) Increase in thicknesses of certain annex building floor slabs.

In addition, the proposed changes also include reconfiguring existing rooms and related room, wall, and access path changes and making changes to the corresponding Tier 1 information in appendix C to the Combined Licenses.

These changes were necessary as part of structural and layout design modifications to the annex building.

Part of the justification for granting the exemption was provided by the review of the amendment. Because the exemption is necessary in order to issue the requested license amendment, the NRC granted the exemption and issued the amendment concurrently, rather than in sequence. This included issuing a combined safety evaluation containing the NRC staff's review of both the exemption request and the license amendment. The exemption met all applicable regulatory criteria set forth in 10 CFR 50.12, 10 CFR 52.7, and Section VIII.A.4. of appendix D to 10 CFR part 52. The license amendment was found to be acceptable as well. The combined safety evaluation is available in ADAMS under Accession No. ML14323A649.

Identical exemption documents (except for referenced unit numbers and license numbers) were issued to the licensee for VEGP Units 3 and 4 (COLs NPF-91 and NPF-92). The exemption documents for VEGP Units 3 and 4 can be found in ADAMS under Accession Nos. ML14323A623 and ML14323A629, respectively. The exemption is reproduced (with the exception of abbreviated titles and additional citations) in Section II of this document. The amendment documents for COLs NPF-91 and NPF-92 are available in ADAMS under Accession Nos. ML14323A635 and ML14323A640, respectively. A summary of the amendment documents is provided in Section III of this document.

II. Exemption

Reproduced below is the exemption document issued to Vogtle Units 3 and Unit 4. It makes reference to the combined safety evaluation that provides the reasoning for the findings made by the NRC (and listed under Item 1) in order to grant the exemption:

1. In a letter dated August 22, 2014, and revised by letter dated September 23, 2014, and supplemented by letters dated October 30 and November 6, 2014, the licensee requested from the Commission an exemption from the provisions of 10 CFR part 52, appendix D, Section III.B, as part of license amendment request 13-038, “Annex Building Structure and Layout Changes” (LAR-13-038).

For the reasons set forth in Section 3.1, “Evaluation of Exemption,” of the NRC staff's Safety Evaluation, which can be found in ADAMS under Accession No. ML14323A649, the Commission finds that:

A. The exemption is authorized by law;

B. the exemption presents no undue risk to public health and safety;

C. the exemption is consistent with the common defense and security;

D. special circumstances are present in that the application of the rule in this circumstance is not necessary to serve the underlying purpose of the rule;

E. the special circumstances outweigh any decrease in safety that may result from the reduction in standardization caused by the exemption; and

F. the exemption will not result in a significant decrease in the level of safety otherwise provided by the design.

2. Accordingly, the licensee is granted an exemption to the provisions of 10 CFR part 52, appendix D, Section III.B, to allow departures from the certified Design Control Document Tier 1, Table 3.3-1, “Definition of Wall Thickness for Nuclear Island Buildings, Turbine Building, and Annex Building,” and Figure 3.3-11A, “Annex Building Plan View at Elevation 100′-0″ (sensitive unclassified non-safeguards information (SUNSI)). The proposed changes include non-system based design descriptions and other detailed information related to these design descriptions and associated ITAAC, such changes to concrete floor thicknesses, annex building wall location descriptions, and the interior configuration of the annex building as described in the licensee's request dated August 22, 2014, and revised by letter dated September 23, 2014, and supplemented by letters dated October 30 and November 6, 2014. This exemption is related to, and necessary for the granting of License Amendment No. 27, which is being issued concurrently with this exemption.

3. As explained in Section 3.1, “Evaluation of Exemption,” of the NRC staff's Safety Evaluation (ADAMS Accession No. ML14323A649), this exemption meets the eligibility criteria for categorical exclusion set forth in 10 CFR 51.22(c)(9). Therefore, pursuant to 10 CFR 51.22(b), no environmental impact statement or environmental assessment needs to be prepared in connection with the issuance of the exemption.

4. This exemption is effective as of December 23, 2014.

III. License Amendment Request

By letter dated August 22, 2014, and revised by letter dated September 23, 2014, and supplemented by letters dated October 30 and November 6, 2014, the licensee requested that the NRC amend the COLs for VEGP, Units 3 and 4, COLs NPF-91 and NPF-92. The proposed amendment would depart from Tier 2 material previously incorporated into the Updated Final Safety Evaluation Report (UFSAR). Additionally, these Tier 2 changes involve changes to Tier 1 Information in the UFSAR, and the proposed amendment would also revise the associated material that has been included in Appendix C of each of the VEGP, Units 3 and 4 COLs. The requested amendment would revise the Tier 2 UFSAR information by revising UFSAR to (1) install an additional non-safety-related battery; (2) revise the annex building internal configuration; (3) increase the height of Containment Filtration Room A (Room 40551) by 4 feet from elevation (EL.) 146′-3″ to 150′-3″; and (4) increase concrete thicknesses from 6 inches to 8 inches in a number of floor slabs.

Additionally, the licensee proposed consistency and editorial changes to Tier 1 Table 3.3-1, as well as the corresponding information in Appendix C. These changes were necessary as part of a design modification to the structure and layout of the annex building.

The Commission has determined for these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register on October 14, 2014 (79 FR 61662). The September 23, 2014, application revision, and the October 30 and November 6, 2014, supplements had no effect on the no significant hazards consideration determination, and no comments were received during the 60-day comment period.

The Commission has determined that these amendments satisfy the criteria for categorical exclusion in accordance with 10 CFR 51.22. Therefore, pursuant to 10 CFR 51.22(b), no environmental impact statement or environmental assessment need be prepared for these amendments.

IV. Conclusion

Using the reasons set forth in the combined safety evaluation, the staff granted the exemption and issued the amendment that the licensee requested on August 22, 2014, and revised by letter dated September 23, 2014, and supplemented by letters dated October 30 and November 6, 2014. The exemption and amendment were issued on December 23, 2014 as part of a combined package to the licensee (ADAMS Accession No. ML14323A609).

Dated at Rockville, Maryland, this 23rd day of March 2015.
For the Nuclear Regulatory Commission.
Lawrence Burkhart,
Chief, Licensing Branch 4, Division of New Reactor Licensing, Office of New Reactors.

[FR Doc. 2015-07277 Filed 3-30-15; 8:45 am]

BILLING CODE 7590-01-P